DEPARTMENT OF COMMERCE

Bureau of Industry and Security

[Docket No. 04-BIS-14]

Action Affecting Export Privileges; Sunford Trading, Ltd., Sunford (China) Trading Ltd., Sunford Trading Ltd., Hero Peak Ltd., Joanna Liu, Portson Trading, Ltd., Gold Technology Limited, Sunford Technology Development Ltd., Beijing Gold Technology Ltd., Sunford (International) Technology, Ltd., and Sunford Macau Commercial Offshore, Ltd., In the Matter of: Sunford Trading, Ltd., Room 2208, 22/F, 118 Connuaght Road West, Hong Kong, China, Respondent, et al.

Order Making Denial of Export Privileges Against Sunford Trading, Ltd. Applicable to Related Persons

Pursuant to section 766.23 of the Export Administration Regulations (“EAR”), the Bureau of Industry and Security (“BIS”), U.S. Department of Commerce, through its Office of Export Enforcement (“OEE”), has requested that I make the denial order that was imposed against Sunford Trading, Ltd. on August 25, 2005 applicable to the following entities, as persons related to Sunford Trading, Ltd:

(1) Sunford (China) Trading Ltd., Room 588, Site B, Zhong Ding Building, No. A 18, North San Huan West Road, Haidian District, Beijing 100086, People's Republic of China

(2) Sunford Trading Ltd., Room 711, 7/F, HSH Mongkok Plaza, 800 Nathan Road, Mongkok, Kowloon, Hong King

(3) Hero Peak Ltd., Room D, 11/F, Fui Nam Building, 48-51 Connaught Road West, Hong Kong

(4) Hero Peak Ltd., Flat C, Block 4, 11/F Golden Bldg., 146 Fuk Wa Street, Sham Shui Po, Kowloon, Hong Kong

(5) Joanna Liu, Flat C, Block 4, 11/F Golden Bldg, 146 Fuk Wa Street, Sham Shui Po, Kowloon, Hong Kong

(6) Joanna Liu, Flat 23C, 97 High Street, Hong Kong

(7) Portson Trading, Ltd., Unit D, 8/F., No. 217-223 Tung Choi Street, Mong Kok, Kowloon, Hong Kong

(8) Gold Technology Limited, 20 FuKang Road, ChangPing Science Park, Beijing 102200, People's Republic of China

(9) Gold Technology Limited, Flat 23C, 97 High Street, Hong Kong

(10) Gold Technology Limited, Room 408, Site B, Zhong Ding Building, No. A 18 North San Huan West Road, Haidian District, Beijing 100086, People's Republic of China

(11) Sunford Technology Development Ltd., British Virgin Islands

(12) Beijing Gold Technology Ltd., Beijing, People's Republic of China

(13) Sunford (International) Technology, Ltd., Macau, People's Republic of China

(14) Sunford Macau Commercial Offshore, Ltd., Macau, People's Republic of China (hereinafter collectively referred to as the “Related Persons”)

On August 25, 2005, an order was published in the Federal Register that imposed a three year denial of export privileges against Sunford Trading, Ltd., Room 2208, 22/F, 118 Connaught Road West, Hong Kong, China (70 FR 49910, August 25, 2005) resulting from the settlement of administrative charges that were pending against Sunford related to its involvement in the illegal export of an industrial hot press furnace to the People's Republic of China.

BIS has presented evidence that indicates that the Related Persons are related to Sunford Trading, Ltd. by ownership control, position of responsibility, affiliation, or other connection in the conduct of trade or business, and that it is necessary to add these persons to the denial order against Sunford Trading, Ltd. in order to avoid evasion of that order.

BIS has notified all Related Persons of this action in accordance with the requirements of sections 766.23 and 766.5(b) of the Export Administration Regulations and has not received any response in opposition. Accordingly, I find that it is necessary to make the Order imposed against Sunford Trading, Ltd. applicable to the above-named Related Persons to prevent the evasion of that Order.

It Is Now Therefore Ordered,

First, that having been provided notice and opportunity for comment as provided in section 766.23 of the Export Administration Regulations (hereinafter, the “Regulations”), the following parties (hereinafter, “Related Persons”) have been determined to be related to Sunford Trading, Ltd., Room 2202, 22/F, 118 Connaught Road West, Hong Kong, by affiliation, ownership, control, or position of responsibility in the conduct of trade or related services, and it has been deemed necessary to make the Order denying the export privileges of Sunford Trading, Ltd. applicable to these Related Persons in order to prevent evasion of the Order:

A. Sunford (China) Trading Ltd., Room 588, Site B, Zhong Ding Building, No. A 18 North San Huan West Road, Haidian District, Beijing 100086, People's Republic of China

B. Sunford Trading Ltd., Room 711, 7/F, HSH Mongkok Plaza, 800 Nathan Road, Mongkok, Kowloon, Hong Kong

C. Hero Peak Ltd., Room D, 11/F, Fui Nam Building, 48-51 Connaught Road West, Hong Kong

D. Hero Peak Ltd., Flat C, Block 4, 11/F Golden Bldg, 146 Fuk Wa Street, Sham Shui Po, Kowloon, Hong Kong

E. Joanna Liu, Flat C, Block 4, 11/F Golden Bldg, 146 Fuk Wa Street, Sham Shui Po, Kowloon, Hong Kong

F. Joanna Liu, Flat 23C, 97 High Street, Hong Kong

G. Portson Trading, Ltd., Unit D, 8/F, No. 217-223 Tung Choi Street, Mong Kok, Kowloon, Hong Kong

H. Gold Technology Limited, 20 FuKang Road, ChangPing Science Park, Beijing 102200, People's Republic of China

I. Gold Technology Limited, Flat 23C, 97 High Street, Hong Kong

J. Gold Technology Limited, Room 408, Site B, Zhong Ding Building, No. A 18 North San Huan West Road, Haidian District, Beijing 100086, People's Republic of China

K. Sunford Technology Development Ltd., British Virgin Islands

L. Beijing Gold Technology Ltd., Beijing, People's Republic of China

M. Sunford (International) Technology, Ltd., Macau, People's Republic of China

N. Sunford Macau Commercial Offshore, Ltd., Macau, People's Republic of China

Second, that the denial of export privileges described in the Order against Sunford Trading, Ltd., which was published in the Federal Register on August 25, 2005, shall be made applicable to the Related Persons until August 25, 2008 as follows:

I. The Related Persons, their successors or assigns, and when acting for or on behalf of the Related Persons, their officers, representatives, agents, or employees (collectively, “Denied Persons”) may not participate, directly or indirectly, in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

II. No person may, directly or indirectly, do any of the following:

A. Export or reexport to or on behalf of the Denied Persons any item subject to the Regulations;

B. Take any action that facilitates the acquisition or attempted acquisition by the Denied Persons of the ownership, possession, or control of any item subject to the Regulations that has been or will be exported from the United States, including financing or other support activities related to a transaction whereby the Denied Person acquires or attempts to acquire such ownership, possession or control;

C. Take any action to acquire from or to facilitate the acquisition or attempted acquisition from the Denied Persons of any item subject to the Regulations that has been exported from the United States;

D. Obtain from the Denied Persons in the United States any item subject to the Regulations with knowledge or reason to know that the item will be, or is intended to be, exported from the United States; or

E. Engage in any transaction to service any item subject to the Regulations that has been or will be exported from the United States and which is owned, possessed or controlled by the Denied Persons, or service any item, of whatever origin, that is owned, possessed or controlled by the Denied Persons if such service involves the use of any item subject to the Regulations that has been or will be exported from the United States. For purposes of this paragraph, servicing means installation, maintenance, repair, modification or testing.

Third, that is accordance with the provisions of section 766.23(c) of the Export Administration Regulations, any of the Related Persons may, at any time, make an appeal related to this Order by filing a full written statement in support of the appeal with the Office of the Administrative Law Judge, U.S. Coast Guard ALJ Docketing Center, 40 South Gay Street, Baltimore, Maryland 21202-4022.

Fourth, that this Order does not prohibit any export, reexport, or other transaction subject to the Regulations where the only items involved that are subject to the Regulations are the foreign-produced direct product of U.S.-origin technology.

Fifth, that this Order shall be published in the Federal Register and a copy provided to each of the Related Persons.

This Order, is effective on March 10, 2006.
Entered this 9th day of March, 2006.
Wendy Wysong,
Deputy Assistant Secretary of Commerce for Export Enforcement.

[FR Doc. 06-2484 Filed 3-15-06; 8:45 am]

BILLING CODE 3510-DT-M